DEPARTMENT OF VETERANS AFFAIRS

[OMB Control No. 2900-0320]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to allow veteran purchasers to gain occupancy of a property prior to completion of exterior onsite improvements.

DATES: Written comments and recommendations on the proposed collection of information should be received on or before May 27, 2005.

ADDRESSES: Submit written comments on the collection of information to Nancy J. Kessinger, Veterans Benefits Administration (20M35), Department of Veterans Affairs, 810 Vermont Avenue, NW., Washington, DC 20420 or e-mail: irmnkess@vba.va.gov. Please refer to “OMB Control No. 2900-0320” in any correspondence.

FOR FURTHER INFORMATION CONTACT: Nancy J. Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Escrow Agreement for Postponed Exterior Onsite Improvements, VA Form 26-1849.

OMB Control Number: 2900-0320.

Type of Review: Extension of a currently approved collection.

Abstract: VA Form 26-1849 is provided as a service to veterans, builders/sellers, and escrow agents in situations involving onsite escrows. The escrow allows the veteran to occupy the property when specific exterior onsite improvement may have to be postponed due to unforeseen circumstances such as adverse weather or other specified unavoidable conditions. For these situations, VA developed escrow procedures whereby a builder/seller deposits at least one and one-half times the cost of completing the improvement into an escrow account held by a third party. The funds can only be used to complete the postponed improvements and are released when the improvements are completed. The information collected on VA Form 26-1849 documents a legal agreement between parties other than VA when appropriate funds must be set aside for completion of certain exterior onsite improvements.

Affected Public: Individuals or households and Business or other for-profit.

Estimated Annual Burden: 625 hours.

Estimated Average Burden Per Respondent: 30 minutes.

Frequency of Response: On occasion.

Estimated Number of Respondents: 1,250.

Dated: March 17, 2005.
By direction of the Secretary.
Martin Hill,
Management Analyst, Records Management Service.

[FR Doc. E5-1326 Filed 3-25-05; 8:45 am]

BILLING CODE 8320-01-P